DEPARTMENT OF TRANSPORTATION

Federal Aviation Administration

Proposed Policy Statement: Proposed Change to the Airworthiness Criteria for Airworthiness Certification of Normal Category Airships; FAA Document FAA-P-8110-2; PS-ACE100-2004-10033

AGENCY: Federal Aviation Administration, DOT.

ACTION: Notice of availability; request for comments.

SUMMARY: This notice announces the availability of and requests comments on FAA document number FAA-P-8110-2, Airship Design Criteria, (ADC) at Change 2. The ADC is suitable for the type certification of airships in the normal category, with a seating capacity of nine seats or less, excluding pilots. This notice advises the public, and especially manufacturers and potential manufacturers of normal category airships, that the FAA intends to develop Change 3 for this document.

DATES: Comments must be received on or before December 22, 2004.

ADDRESSES: Copies of the current Airship Design Criteria, FAA Document FAA-P-8110-2, PS-ACE100-2004-10033, may be requested from the following: Small Airplane Directorate, Standards Office (ACE-110), Aircraft Certification Service, Federal Aviation Administration, 901 Locust Street, Room 301, Kansas City, MO 64106. These airworthiness criteria are also available on the Internet. These criteria will be posted in the Regulations and Guidance Library at the following address http://www.airweb.faa.gov/policy. Send all comments concerning the proposed Change 3 of the airworthiness criteria for normal category airships to the individual identified under FOR FURTHER INFORMATION CONTACT.

FOR FURTHER INFORMATION CONTACT: Mike Reyer or Karl Schletzbaum, Federal Aviation Administration, Small Airplane Directorate, Regulations & Policy, ACE-111, 901 Locust Street, Room 301, Kansas City, Missouri 64106; telephone: (816) 329-4131 (M. Reyer); or (816) 329-4146 (K. Schletzbaum); fax: (816) 329-4090; e-mail: karl.schletzbaum@faa.gov.

Discussion

Background

Comments received may be utilized to develop Change 3 for the ADC. This notice includes the Airship Design Criteria at Change 2 as issued on February 5, 1995. Since the issuance of Change 2 of the ADC, the FAA has received various inputs relating to revising or improving these criteria, but these inputs have not been incorporated into the document yet. Some of these recommendations may have been unsolicited and not received in the context of a formal process. Additionally, with time and the rapid change of technology since the last update of these criteria, some of the recommendations may not be as applicable as when they were initially proposed. We also believe that the structure of the industry affected has changed substantially since the receipt of many of the comments. Considering these factors, we decided to not include any of the proposed changes to the ADC in this notice but to solicit new, additional, or revised comments from the current active airship industry. This notice includes the ADC at Change 2 as issued on February 5, 1995, as a reference document for commenters.

This notice is necessary to advise the public of the development of this proposed change to the airship airworthiness criteria and to give all interested persons an opportunity to present their views on it.

Airships are certificated under the provisions of 14 CFR, part 21, § 21.17(b), which allows the Administrator to designate appropriate airworthiness criteria for special classes of aircraft, including airships. Designated criteria should provide a level of safety equivalent to the airworthiness regulations contained in 14 CFR, parts 23, 25, 27, 29, 31, 33, and 35. The FAA has decided that airworthiness criteria, not the issuance of actual regulations, are the most efficient and flexible method of obtaining an acceptable level of safety for normal category airships. The FAA bases this decision on the formative state of this industry and the potential for airships to develop into a larger segment of the aerospace industry. The FAA may decide to codify airship airworthiness requirements at a later time, if warranted.

These are acceptable airworthiness criteria, but not the only acceptable criteria, for certificating a normal category airship in the United States. These criteria are internationally recognized, but are not suitable for all types of airships, specifically those that have more than nine seats. Up to 19 seats, the FAA may consider some other criteria based on foreign airship airworthiness standards. For certain types of proposed large airships, the FAA has recognized the need for a transport category of airships and has noticed the German-Dutch Transport Airship Requirement (TAR) as proposed airworthiness criteria.

These proposed airworthiness criteria only apply to non-rigid airships that are capable of vertical ascent (near equilibrium) operations. These proposed airworthiness criteria do not include provisions for hybrid aircraft/airships that require or operate with significant dynamic lift. The FAA expects that modifications and additions to proposed criteria will be necessary for specific airship projects, due to the unique nature of each airship design. Comments on technology issues beyond the current criteria will be reviewed, but not necessarily incorporated.

SUPPLEMENTARY INFORMATION:

Comments Invited

We invite your comments on this proposed change to airworthiness criteria for normal category airships. Send any data or views as you may desire. Identify the airworthiness criteria Policy Statement Number PS-ACE100-2004-10033 on your comments, and if you submit your comments in writing, send two copies of your comments to the above address. The Small Airplane Directorate will consider all communications received on or before the closing date for comments. We may change the proposal contained in this notice because of the comments received.

Comments sent by fax or the Internet must contain “Comments to proposed policy statement PS-ACE100-2004-10033” in the subject line. You do not need to send two copies if you fax your comments or send them through the Internet. If you send comments over the Internet as an attached electronic file, format it in Microsoft Word. State what specific change you are seeking to the proposed policy statement and include justification (for example, reasons or data) for each request.

Issued in Kansas City, Missouri, on August 12, 2004.
John R. Colomy,
Acting Manager, Small Airplane Directorate, Aircraft Certification Service.

[FR Doc. 04-19366 Filed 8-23-04; 8:45 am]

BILLING CODE 4910-13-P